DEPARTMENT OF THE INTERIOR

Bureau of Ocean Energy Management

Gulf of Mexico (GOM), Outer Continental Shelf (OCS), Western Planning Area (WPA) and Central Planning Area (CPA), Oil and Gas Lease Sales for 2012-2017

AGENCY: Bureau of Ocean Energy Management (BOEM), Interior.

ACTION: Notice of Availability (NOA) of the Draft Environmental Impact Statement (EIS) and Public Meetings.

Authority: This NOA is published pursuant to the regulations (40 CFR 1503) implementing the provisions of the National Environmental Policy Act (NEPA) of 1969, as amended (42 U.S.C. 4321 et seq. (1988)).

SUMMARY: The BOEM has prepared a Draft EIS on oil and gas lease sales tentatively scheduled in 2012-2017 in the WPA and CPA offshore the States of Texas, Louisiana, Mississippi, and Alabama. Under the proposed Outer Continental Shelf Oil and Gas Leasing Program: 2012-2017 (5-Year Program), five annual areawide lease sales are scheduled for the WPA and five annual areawide lease sales are scheduled for the CPA. The proposed WPA lease sales are Lease Sale 229 in 2012, Lease Sale 233 in 2013, Lease Sale 238 in 2014, Lease Sale 246 in 2015, and Lease Sale 248 in 2016; the proposed CPA lease sales are Lease Sale 227 in 2013, Lease Sale 231 in 2014, Lease Sale 235 in 2015, Lease Sale 241 in 2016, and Lease Sale 247 in 2017.

SUPPLEMENTARY INFORMATION: The BOEM has prepared a draft EIS (Multisale EIS) for the five WPA and five CPA Gulf of Mexico lease sales scheduled for 2012-2017 in the proposed 5-Year Program. This draft Multisale EIS provides information on the baseline conditions and potential environmental effects of oil and natural gas leasing, exploration, development, and production in the WPA and CPA. The BOEM conducted an extensive search for information pertinent to the lease sales, including consideration of the Deepwater Horizon event, surveys of scientific journals and credible scientific data and information from academic institutions and Federal, State, and local agencies, and interviews with personnel from academic institutions and Federal, State, and local agencies. The BOEM has examined potential impacts of routine activities and accidental events, including a possible low probability, catastrophic event associated with the proposed lease sales, as well as the proposed lease sales' incremental contribution to the cumulative impacts on environmental and socioeconomic resources. The oil and gas resource estimates and scenario information for this draft Multisale EIS are presented as a range that would encompass the resources and activities estimated for the WPA and CPA proposed lease sales.

Draft Multisale EIS Availability: To obtain a single, printed or CD-ROM copy of the draft Multisale EIS, you may contact the Bureau of Ocean Energy Management, Gulf of Mexico OCS Region, Public Information Office (MS 5034), 1201 Elmwood Park Boulevard, Room 250, New Orleans, Louisiana 70123-2394 (1-800-200-GULF). An electronic copy of the Draft EIS is available on BOEM's Internet Web site at http://www.boem.gov/Environmental-Stewardship/Environmental-Assessment/NEPA/nepaprocess.aspx. Several libraries along the Gulf Coast have been sent copies of the Draft EIS. To find out which libraries have copies of the Draft EIS for review, and their locations, you may contact BOEM's Public Information Office.

Comments: Federal, State, and local government agencies and other interested parties are requested to send their written comments on the Draft EIS in one of the following two ways:

1. In written form enclosed in an envelope labeled “Comments on the Draft Multisale EIS” and mailed (or hand carried) to Mr. Gary D. Goeke, Chief, Regional Assessment Section, Office of the Environment (MS 5410), Bureau of Ocean Energy Management, Gulf of Mexico OCS Region, 1201 Elmwood Park Boulevard, New Orleans, Louisiana 70123-2394.

2. Electronically to the BOEM email address: MultisaleEIS@BOEM.gov.

Comments should be submitted no later than 45 days from the publication of this NOA or February 13, 2012.

Public Meetings: The BOEM will hold public meetings to obtain comments regarding the Draft EIS. These meetings are scheduled as follows:

• Houston, Texas: January 10, 2012, Houston Airport Marriott at George Bush Intercontinental, 18700 John F. Kennedy Boulevard, Houston, Texas 77032, beginning at 1 p.m. CST;

• New Orleans, Louisiana: January 11, 2012, Bureau of Ocean Energy Management, 1201 Elmwood Park Boulevard, New Orleans, Louisiana 70123, beginning at 1 p.m. CST; and

• Mobile, Alabama: January 12, 2012, Five Rivers—Alabama's Delta Resource Center, 30945 Five Rivers Boulevard, Spanish Fort, Alabama, 36527, beginning at 1 p.m. CST.

FOR FURTHER INFORMATION CONTACT: For more information on the Draft EIS, you may contact Mr. Gary D. Goeke, Bureau of Ocean Energy Management, Gulf of Mexico OCS Region, 1201 Elmwood Park Boulevard (MS 5410), New Orleans, Louisiana 70123-2394, or by email at MultisaleEIS@BOEM.gov. You may also contact Mr. Goeke by telephone at (504) 736-3233.

Dated: December 7, 2011.
Walter D. Cruickshank,
Deputy Director, Bureau of Ocean Energy Management.

[FR Doc. 2011-33605 Filed 12-29-11; 8:45 am]

BILLING CODE 4310-MR-P